DEPARTMENT OF ENERGY

Senior Executive Service; Performance Review Board; Correction

AGENCY: U.S. Department of Energy.

ACTION: Designation of Performance Review Board Standing Register; correction.

SUMMARY: The Department of Energy (DOE) published a notice in the Federal Register on October 8, 2014, (79 FR 60845) listing the names of the Performance Review Board Standing Register. This documents amends that notice by removing the name of Larry Buttress and adding in its place, the name of Suzanne B. Cooper.

Issued in Washington, DC, on October 17, 2014.
Tonya M. Mackey,
Director, Office of Executive Resources.

[FR Doc. 2014-25458 Filed 10-24-14; 8:45 am]

BILLING CODE 6450-01-P